DEPARTMENT OF COMMERCE

National Oceanic and Atmospheric Administration

[I.D. 112304B]

New England Fishery Management Council; Public Meetings

AGENCY: National Marine Fisheries Service (NMFS), National Oceanic and Atmospheric Administration (NOAA), Commerce.

ACTION: Notice of a public meeting.

SUMMARY: The New England Fishery Management Council (NEFMC) is scheduling a public meeting of its Research Steering Committee in November, 2004. Recommendations from the committee will be brought to the full Council for formal consideration and action, if appropriate.

DATES: The meeting will held on Tuesday, December 14, 2004 at 9:30 a.m.

ADDRESSES: The meeting will be held at the Boston Marriott Burlington, Route 128, Burlington, MA 01803; telephone: (781) 229-6565.

Council address: New England Fishery Management Council, 50 Water Street, Newburyport, MA 01950.

FOR FURTHER INFORMATION CONTACT: Paul J. Howard, Executive Director, New England Fishery Management Council; telephone: (978) 465-0492.

SUPPLEMENTARY INFORMATION: At this meeting the committee will receive a presentation on the NMFS process to consider experimental fishery permit requests and develop related comments for consideration by the NEFMC and Regional Administrator. They will continue discussions on 2005 research priorities, particularly in relation to the long-term programs currently underway in the Northeast such as the cod tagging, study fleet and industry-based survey initiatives. They will also coordinate comments on final reports that have been funded through NMFS' cooperative research program and begin to develop a consistent process for the various research set-aside programs provided for in the NEFMC fishery management plans.

Although non-emergency issues not contained in this agenda may come before this group for discussion, those issues may not be the subject of formal action during this meeting. Action will be restricted to those issues specifically listed in this notice and any issues arising after publication of this notice that require emergency action under section 305(c) of the Magnuson-Stevens Act, provided the public has been notified of the NEFMC's intent to take final action to address the emergency.

Special Accommodations

This meeting is physically accessible to people with disabilities. Requests for sign language interpretation or other auxiliary aids should be directed to Paul J. Howard (see ADDRESSES) at least 5 days prior to the meeting dates.

Dated: November 23, 2004.
Alan D. Risenhoover,
Acting Director, Office of Sustainable Fisheries, National Marine Fisheries Service.

[FR Doc. E4-3357 Filed 11-26-04; 8:45 am]

BILLING CODE 3510-22-S